DEPARTMENT OF COMMERCE

National Oceanic and Atmospheric Administration

RIN: 0648-XI96

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a Reef Fish Advisory Panel (AP).

DATES: The meeting will convene at 1:30 p.m. on Tuesday, July 29, 2008 and conclude no later than 12 p.m. on Wednesday, July 30, 2008.

ADDRESSES: The meeting will be held at the Quorum Hotel, 700 N. Westshore Blvd., Tampa, FL 33609; telephone: (813) 289-8200.

Council address: Gulf of Mexico Fishery Management Council, 2203 North Lois Avenue, Suite 1100, Tampa, FL 33607.

FOR FURTHER INFORMATION CONTACT: Steven Atran, Population Dynamics Statistician; Gulf of Mexico Fishery Management Council; telephone: (813) 348-1630.

SUPPLEMENTARY INFORMATION: The Reef Fish AP will review and comment on two draft amendments to the Reef Fish Fishery Management Plan. Amendment 29 proposes to rationalize effort and reduce overcapacity in the commercial grouper and tilefish fisheries in order to achieve and maintain optimum yield (OY). Effort management approaches considered in this amendment include:

• Permit endorsements

• Implementation of an Individual Fishing Quota (IFQ) Program

Amendment 30B contains alternatives that propose to:

• Set management thresholds and targets for gag

• Set total allowable catch (TAC) for gag and red grouper

• Set commercial and recreational allocations for gag and red grouper

• Establish accountability measures for gag and red grouper

• Adjust commercial quotas for gag red grouper and the shallow-water grouper aggregate

• Adjust recreational management measures for groupers, which includes:

a. bag limits

b. size limits

c. closed seasons

• Address bycatch and bycatch mortality of groupers

• Create new area closures and/or extend the duration of existing closed areas

• Address regulatory compliance of federally permitted reef fish vessels when fishing in state waters

Copies of the agendas and other related materials can be obtained by calling (813) 348-1630.

Although other non-emergency issues not on the agendas may come before the AP for discussion, in accordance with the Magnuson-Stevens Fishery Conservation and Management Act (Magnuson-Stevens Act), those issues may not be the subject of formal action during these meetings. Actions of the SSC will be restricted to those issues specifically identified in the agendas and any issues arising after publication of this notice that require emergency action under Section 305(c) of the Magnuson-Stevens Act, provided the public has been notified of the Council's intent to take action to address the emergency.

Special Accommodations

These meetings are physically accessible to people with disabilities. Requests for sign language interpretation or other auxiliary aids should be directed to Tina O'Hern at the Council (see ADDRESSES) at least 5 working days prior to the meeting.

Dated: July 3, 2008.
Tracey L. Thompson,
Acting Director, Office of Sustainable Fisheries, National Marine Fisheries Service.

[FR Doc. E8-15589 Filed 7-8-08; 8:45 am]

BILLING CODE 3510-22-S